ENVIRONMENTAL PROTECTION AGENCY

40 CFR Part 180

[EPA-HQ-OPP-2002-0043; FRL-8151-4]

Pesticide Tolerance Nomenclature Changes; Technical Amendments; Correction

AGENCY: Environmental Protection Agency (EPA).

ACTION: Final rule; technical correction.

SUMMARY: EPA issued a final rule in the Federal Register of September 18, 2007 promulgating nomenclature changes for several hundred pesticide tolerances. This document is being issued to remove from the nomenclature changes several items that had been changed previously.

DATES: This final rule is effective November 2, 2007.

ADDRESSES: EPA has established a docket for this action under docket identification (ID) number EPA-HQ-OPP-2002-0043. To access the electronic docket, go to http://www.regulations.gov, select “Advanced Search,” then “Docket Search.” Insert the docket ID number where indicated and select the “Submit” button. Follow the instructions on the regulations.gov web site to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Stephen Schaible, Registration Division (7505P), Office of Pesticide Programs, Environmental Protection Agency, 1200 Pennsylvania Ave., NW., Washington DC 20460-0001; telephone number: (703) 308-9362; e-mail address: schaible.stephen@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to using regulations.gov, you may access this Federal Register document electronically through the EPA Internet under the “Federal Register” listings at http://www.epa.gov/fedrgstr.

II. What Does this Correction Do?

EPA is correcting the nomenclature document issued in the Federal Register on September 18, 2007 (72 FR 53134) (FRL-8126-5). Subsequent to publication of the September 18, 2007 Federal Register document, EPA learned that in the table of some 600 entries, several of the nomenclature changes had been included in a tolerance regulation that was issued in the Federal Register of September 12, 2007, (72 FR 52013), thus making inclusion of those entries unnecessary and confusing. Therefore, EPA is removing the duplicate nomenclature changes that appeared in the September 12, 2007 Federal Register tolerance rule from the September 18, 2007 tolerance nomenclature document.

III. Why is this Correction Issued as a Final Rule?

Section 553 of the Administrative Procedure Act (APA), 5 U.S.C. 553(b)(B), provides that, when an Agency for good cause finds that notice and public procedure are impracticable, unnecessary or contrary to the public interest, the Agency may issue a final rule without providing notice and an opportunity for public comment. EPA has determined that there is good cause for making today's technical correction final without prior proposal and opportunity for comment, because this document is merely removing commodity entries that have already been updated. EPA finds that this constitutes good cause under 5 U.S.C. 553(b)(B).

IV. Do Any of the Statutory and Executive Order Reviews Apply to this Action?

EPA included the required statutory discussion in the September 18, 2007 nomenclature rule.

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: October 23, 2007.
Debra Edwards,
Director, Office of Pesticide Programs.

Therefore, 40 CFR part 180 is corrected as follows:

PART 180—[AMENDED]

1. The authority citation for part 180 continues to read as follows:

Authority: 21 U.S.C. 321(q), 346a, and 371.

2. In FR Doc. E7-18159 published in the Federal Register of September 18, 2007 (72 FR 53134) (FRL-8126-5), in the table to part 180, make the following corrections.

a. On page 53137, remove the two entries for §180.103.

b. On page 53138, remove all four entries for §180.142.

c. On page 53138, remove the entry for §180.185.

d. On page 53138, remove the entry for §180.211.

e. On page 53138, remove the two entries for §180.213.

f. On page 53138, remove all the entries for §180.220.

g. On page 53139, remove all the entries for §180.242.

h. On page 53139, remove the entry for §180.249.

i. On page 53139, remove the entries for §180.298.

j. Beginning on the bottom of page 53139, remove all the entries for §180.317.

k. On page 53140, remove all the entries for §180.330.

l. On page 53140, remove the entry for §180.345.

m. On page 53141, remove the two entries for §180.378.

n. On page 53141, remove the two entries for §180.381.

o. On page 53142, remove all of the entries for §180.418, except the entries for “Berry, group 13;” “Grass, forage, group 17;” and “Grass, hay, group 17.”

p. On page 53145, remove all the entries for §180.489.

[FR Doc. E7-21471 Filed 10-30-07; 8:45 am]

BILLING CODE 6560-50-S